DEPARTMENT OF TRANSPORTATION

Federal Highway Administration

Notice of Intent for Interstate 55 Interchange in Shelby County, Tennessee

AGENCY: Federal Highway Administration (FHWA), Department of Transportation (DOT).

ACTION: Notice of intent.

SUMMARY: The Federal Highway Administration (FHWA) is issuing this notice to advise the public that a limited scope supplemental environmental impact statement (SEIS) will be prepared to determine construction phasing impacts for the Interstate 55 (I-55) Interchange at E.H. Crump Boulevard and South Boulevard project in the City of Memphis, Shelby County, Tennessee.

FOR FURTHER INFORMATION CONTACT: Theresa Claxton, Planning and Program Management Team Leader, Tennessee Division, Federal Highway Administration, 404 BNA Drive, Suite 508, Nashville, TN 37217, telephone: 615-781-5770.

SUPPLEMENTARY INFORMATION: FHWA, in cooperation with the Tennessee Department of Transportation (TDOT), prepared a Draft EIS (DEIS) and a Final EIS (FEIS) for proposed improvements to the I-55 interchange at E.H. Crump Boulevard in the City of Memphis. The DEIS was approved on March 25, 2009. The FEIS was approved on June 28, 2011. The FEIS examined four alternatives in detail. On January 25, 2012, FHWA issued a Record of Decision (ROD) identifying the Selected Alternative and the reasons for its selection. The Selected Alternative consists of replacing the existing cloverleaf interchange with a new interchange configuration that will provide through lanes for mainline I-55 traffic, eliminating the need for interstate traffic to utilize single-lane, low speed ramps in order to continue on I-55. A new multi-lane roundabout interchange will be constructed, replacing the existing cloverleaf interchange, providing improved access to and from I-55 and existing local roadways.

The FEIS and ROD are available for review on the project Web site at http://www.tn.gov/tdot/article/i-55-crump.

Since the issuance of the ROD, TDOT has taken several major steps to advance the project towards construction. Based on a constructability review, TDOT became aware that a total closure of the I-55 bridge over the Mississippi River (Memphis-Arkansas Bridge) may be necessary. During this possible closure, traffic would be detoured to the I-40 Hernando DeSoto Bridge. A second constructability review determined that this closure could be up to 9 months. The impacts of a total closure of the I-55 bridge for up to nine months had not been evaluated in the ROD and therefore TDOT agreed to further explore the proposed construction phasing of the project via a reevaluation of the EIS. The reevaluation process involved additional studies on traffic, emergency services, and socioeconomic impacts and a public involvement process. TDOT held public meetings in both West Memphis, Arkansas and in Memphis, Tennessee to gather comments and concerns voiced by regional stakeholders and solicited written input through an on-line survey.

Through this process, TDOT, in coordination with FHWA, determined that the proposed construction phasing would result in potentially significant impacts not previously assessed and disclosed in the EIS. Therefore, TDOT concluded the Reevaluation with the determination that a Limited Scope Supplemental Environmental Impact Statement (SEIS) should be undertaken.

The analysis of impacts relating to construction phasing, and any potential changes to the construction phasing that may result, will not change the design or location of the alternatives under consideration or previous environmental studies, impacts or proposed mitigation committed to in the project Record of Decision. The scope of the SEIS will be limited to the social, economic, and environmental effects of the construction phasing for the I-55 Interchange at E.H. Crump Boulevard.

The SEIS process will include an invitation letter sent to potential cooperating agencies, participating agencies, and Section 106 consulting parties inviting the agencies to officially take part in the SEIS process. One or more public hearings will be held to solicit public input. In addition, a formal comment period for the public and agencies will be provided following the publication of the Draft SEIS. Written and verbal comments on the Draft SEIS will be taken by mail and at the public hearings. Public notice will be given on the time and place of the future public hearings. The comments received will be responded to in the Final SEIS.

Questions concerning this proposed closure and the SEIS should be directed to Steve Chipman, Project Manager, Tennessee Department of Transportation, 300 Benchmark Place, Jackson, TN 38301, telephone 731-935-0157.

Dated: August 24, 2015.
Pamela M. Kordenbrock,
Division Administrator, Nashville, TN.

[FR Doc. 2015-21455 Filed 8-28-15; 8:45 am]

BILLING CODE 4910-22-P